DEPARTMENT OF ENERGY

Federal Energy Regulatory Commission

Sunshine Act Meetings

The following notice of meeting is published pursuant to section 3(a) of the government in the Sunshine Act (Pub. L. No. 94-409), 5 U.S.C.552b:

Agency Holding Meeting: Federal Energy Regulatory Commission.

TIME AND DATE: February 20, 2025, 10:00 a.m.

PLACE: Room 2C, 888 First Street NE, Washington, DC 20426.

STATUS: Open access.

MATTERS TO BE CONSIDERED: Agenda. * Note—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1122nd—Meeting
[Open; February 20, 2025; 10:00 a.m.]
Item No. | Docket No. | Company
Administrative
A-1 | AD25-1-000 | Agency Administrative Matters.
A-2 | AD25-2-000 | Customer Matters, Reliability, Security and Market Operations.
Electric
E-1 | EL25-49-000 | PJM Interconnection, L.L.C., et al.
| AD24-11-000 | Large Loads Co-Located at Generating Facilities.
| EL25-20-000 (consolidated) | Constellation Energy Generation, LLC v. PJM Interconnection, L.L.C.
E-2 | ER24-2018-000 | Louisville Gas and Electric Company and Kentucky Utilities Company.
E-3 | ER24-2040-000 | Tri-State Generation and Transmission Association, Inc.
E-4 | ER24-1847-000 | Nevada Power Company and Sierra Pacific Power Company.
E-5 | ER24-2029-000 | Dominion Energy South Carolina, Inc.
E-6 | ER25-437-000 | California Independent System Operator Corporation.
E-7 | EL24-50-000 | Salsa Solar Energy, LLC and Towner Wind Energy III LLC v. Public Service Company of Colorado.
E-8 | ER24-2888-001 | Atlantic City Electric Company and PJM Interconnection, L.L.C.
| ER24-2889-001 | Baltimore Gas and Electric Company and PJM Interconnection, L.L.C.
| ER24-2890-001 | Commonwealth Edison Company and PJM Interconnection, L.L.C.
| ER24-2891-001 | Delmarva Power & Light Company and PJM Interconnection, L.L.C.
| ER24-2893-001 | PECO Energy Company and PJM Interconnection, L.L.C.
| ER24-2894-001 (not consolidated) | Potomac Electric Power Company and PJM Interconnection, L.L.C.
E-9 | RD25-1-000; RD25-2-000; RD25-3-000 (not consolidated) | North American Electric Reliability Corporation.
E-10 | RD25-4-000 | North American Electric Reliability Corporation.
E-11 | IN79-6-000 | Form 580—Interrogatory on Fuel and Energy Purchase Practices and DTE Electric Company.
E-12 | EL24-127-000 | Great Basin Transmission, LLC.
E-13 | ER15-2013-015 | Talen Energy Marketing, LLC.
| ER12-2510-012 | Brandon Shores LLC.
| ER15-2014-009 | Brunner Island, LLC.
| ER10-2435-022 | Camden Plant Holding, L.L.C.
| ER10-2440-014 | Dartmouth Power Associates Limited Partnership.
| ER12-2512-012 | H.A. Wagner LLC.
| ER19-481-005 | LMBE Project Company LLC.
| ER18-2252-004 | MC Project Company LLC.
| ER15-2022-008 | Montour, LLC.
| ER15-2026-008 | Susquehanna Nuclear, LLC.
E-14 | ER10-2042-046 | Calpine Energy Services, L.P.
| ER10-1944-012 | Bethpage Energy Center 3, LLC.
| ER10-2051-014 | Calpine Bethlehem, LLC.
| ER23-944-004 | Calpine Community Energy, LLC.
| ER10-1942-038 | Calpine Construction Finance Company, L.P.
| ER17-696-026 | Calpine Energy Solutions, LLC.
| ER14-2931-012 | Calpine Fore River Energy Center, LLC.
| ER10-2043-014 | Calpine Mid-Atlantic Generation, LLC.
| ER10-2029-016 | Calpine Mid-Atlantic Marketing, LLC.
| ER10-2041-014 | Calpine Mid Merit, LLC.
| ER18-1321-007 | Calpine Mid-Merit II, LLC.
| ER10-2040-014 | Calpine New Jersey Generation, LLC.
| ER20-1939-005 | Calpine Northeast Development, LLC.
| ER10-1938-041 | Calpine PowerAmerica—CA, LLC.
| ER10-2036-015 | Calpine Vineland Solar, LLC.
| ER10-1934-040 | CES Marketing IX, LLC.
| ER10-1893-040 | CES Marketing X, LLC.
| ER10-3051-045 | Champion Energy, LLC.
| ER10-2985-044 | Champion Energy Marketing LLC.
| ER10-3049-045 | Champion Energy Services, LLC.
| ER10-1889-012 | CPN Bethpage 3rd Turbine, Inc.
| ER10-3260-014 | Granite Ridge Energy, LLC.
| ER10-1895-012 | KIAC Partners.
| ER10-1870-012 | Nissequogue Cogen Partners.
| ER11-4369-025 | North American Power and Gas, LLC.
| ER16-2218-026 | North American Power Business, LLC.
| ER10-1862-040 | Power Contract Financing, L.L.C.
| ER10-1858-012 | TBG Cogen Partners.
| ER13-1401-012 | Westbrook Energy Center, LLC.
| ER10-2044-014 | Zion Energy LLC.
E-15 | ER10-1585-022 | Alabama Electric Marketing, LLC.
| ER10-2480-012 | Berkshire Power Company, LLC.
| ER10-1594-022 | California Electric Marketing, LLC.
| ER16-733-013 | LQA, LLC.
| ER10-1617-022 | New Mexico Electric Marketing, LLC.
| ER16-1148-013 | Tenaska Energía de Mexico, S. de R.L. de C.V.
| ER18-1960-006 | Tenaska Pennsylvania Partners, LLC.
| ER12-60-024 | Tenaska Power Management, LLC.
| ER10-1632-024 | Tenaska Power Services Co.
| ER10-1626-014 | Tenaska Virginia Partners, L.P.
| ER10-1628-022 | Texas Electric Marketing, LLC.
E-16 | ER10-2997-007 | Atlantic City Electric Company.
| ER10-2997-008
| ER10-2172-030 | Baltimore Gas and Electric Company.
| ER10-2172-031
| ER10-1048-027 | Commonwealth Edison Company.
| ER10-1048-028
| ER10-3018-007 | Delmarva Power & Light Company.
| ER10-3018-008
| ER10-1143-026 | PECO Energy Company.
| ER10-1143-027
| ER10-3030-007 | Potomac Electric Power Company.
| ER10-3030-008
E-17 | ER10-2806-007 | TransAlta Energy Marketing (U.S.) Inc.
| ER19-1889-003 | Antrim Wind Energy LLC.
| ER18-1984-003 | Big Level Wind LLC.
| ER10-2818-007 | TransAlta Energy Marketing Corporation.

A free webcast of this event is available through the Commission's website. Anyone with Internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: February 13, 2025.
Debbie-Anne A. Reese,
Secretary.

[FR Doc. 2025-02839 Filed 2-14-25; 11:15 am]

BILLING CODE 6717-01-P